DEPARTMENT OF THE INTERIOR

Bureau of Land Management

[NV-930-1430-ER]

Notice of Intent; NV

AGENCY: Bureau of Land Management, Interior.

ACTION: Amended notice of intent to prepare an environmental impact statement (EIS) to consider the Toquop Energy Project/Lincoln County well field, water pipeline, power plant site, and access road rights-of-way in southeastern Lincoln County, Nevada and related exchange of public land in Lincoln County, Nevada for private land in Washoe County, Nevada and to amend the Caliente Management Framework Plan to address the proposed exchange of public land in Lincoln County, Nevada (to be used in part as the site of the Toquop Energy Project) for private land in Washoe County, Nevada.

SUMMARY: On July 27, 2001, notice was published in the Federal Register (Volume 66, Number 145, Page 39193) announcing the intent of the Bureau of Land Management to prepare an EIS to consider the Toquop Energy Project/Lincoln County well field, water pipeline, and access road rights-of-way in southeastern Lincoln County, Nevada. The public comment period on the scope of the EIS closed on September 10, 2001. As a result of public comments received during the scoping period, the Bureau of Land Management intends to incorporate a proposed exchange of public land in Lincoln County, Nevada (to be used in part as the site of the Toquop Energy Project) for private land in Washoe County, Nevada within the scope of the EIS. Previously, the land exchange was being considered in a separate environmental assessment. In addition, the Bureau of Land Management will prepare an amendment to the Caliente Management Framework to address the proposed land exchange.

ADDRESSES: Written comments should be addressed to Bureau of Land Management, Gene A. Kolkman, Ely Field Manager, HC 33, Box 33500, Ely, Nevada 89301-9408.

FOR FURTHER INFORMATION: Daniel R. Netcher, Team Leader for Lands and Minerals, at the above address or telephone (775) 289-1872.

SUPPLEMENTARY INFORMATION: Toquop Energy has proposed an 1100 megawatt electrical generation facility fueled by natural gas from the Kern River gas pipeline. The facility is proposed to be located at T. 11 S., R. 69 E., Section 36, Mount Diablo Meridian. The facility would be located on lands which are currently public lands and would be the subject of a land exchange. Nevada Land and Resource Company has proposed to exchange private land in Washoe County, Nevada for public land in Lincoln County, Nevada, a portion of which will be used as the site for the power plant. Toquop Energy has submitted an application for a Federal Land Policy and Management Act right-of-way for the power plant site, road access, well field, and water pipeline access to the facility. The Bureau of Land Management will prepare a proposed amendment to the Caliente Management Framework Plan to address the land exchange. This EIS will evaluate the proposed Management Framework Plan amendment, the proposed land exchange and the proposed right-of-way action. The EIS will consider a No Action alternative and other alternatives including alternate locations and alignment of the well field, water pipelines, power plant site, and access road.

Public Involvement: Public informational meetings for the Toquop Energy Project EIS were held July 11, 2001, in Caliente, Nevada and July 12, 2001, in Mesquite, Nevada. A scoping meeting for the Toquop Energy Project EIS was held August 15, 2001, in Las Vegas, Nevada. Public scoping meetings for the Pah Rah/Toquop Land Exchange were held July 11, 2001, in Mesquite, Nevada and July 12, 2001, in Reno, Nevada. The public is encouraged to provide additional written comments on the Bureau of Land Management's intent to prepare a proposed amendment to the Caliente Management Framework plan and to address the proposed amendment and related land exchange in the EIS for the Toquop Energy Project. The comment period for the scoping of the EIS will commence with the publication of the Notice. Those who have comments on the EIS should respond in writing within 30 days from the date of publication of the Notice. The Notice will be distributed by mail on or about the date of publication of the Notice in the Notice publication. Release of the draft amendment to the Caliente Management Framework Plan and the draft EIS regarding the amendment, the related land exchange and the Toquop Energy Project will be announced in the local news media, as these dates are established.

Dated: October 4, 2001.
Eric K. Luse,
Associate Field Manager.

[FR Doc. 01-27926 Filed 11-6-01; 8:45 am]

BILLING CODE 4310-HC-P